DEPARTMENT OF THE INTERIOR

National Park Service

[N6429; NPS-WASO-NAGPRA-NPS0040836; PPWOCRADN0-PCU00RP14.R50000]

Notice of Inventory Completion: Sam Noble Oklahoma Museum of Natural History, University of Oklahoma, Norman, OK

AGENCY: National Park Service, Interior.

ACTION: Notice.

SUMMARY: In accordance with the Native American Graves Protection and Repatriation Act (NAGPRA), the Sam Noble Oklahoma Museum of Natural History (SNOMNH), has completed an inventory of human remains and associated funerary objects and has determined that there is a cultural affiliation between the human remains and associated funerary objects and Indian Tribes or Native Hawaiian organizations in this notice.

DATES: Repatriation of the human remains and associated funerary objects in this notice may occur on or after September 19, 2025.

ADDRESSES: Send written requests for repatriation of the human remains and associated funerary objects in this notice to Zachary Garrett, NAGPRA Program Coordinator, Sam Noble Oklahoma Museum of Natural History, University of Oklahoma, 2401 Chautauqua Avenue, Norman, OK 73072-7029, email zacgarrett@ou.edu.

SUPPLEMENTARY INFORMATION: This notice is published as part of the National Park Service's administrative responsibilities under NAGPRA. The determinations in this notice are the sole responsibility of SNOMNH, and additional information on the determinations in this notice, including the results of consultation, can be found in its inventory or related records. The National Park Service is not responsible for the determinations in this notice.

Abstract of Information Available

Human remains representing, at least, seven individuals have been identified. The 31 associated funerary objects are two lots of ceramic bowls, two lots of ceramic jars, two lots of ceramic pots, two lots of ceramic bottles, three lots of ceramic sherds, four lots of ceramic effigies, four lots of ground stone, three lots of chipped stone objects, two lots of beads, two lots of gorgets, one lot of faunal pins, three lots of pipes, and one lot of hematite.

These individuals and associated funerary objects were removed from multiple burial sites in Red River County-Texas, McCurtain County-Oklahoma, and other parts of northeastern TX and southeastern OK. They were removed by George T. Wright, a local landowner and collector. Wright targeted burials and was specifically interested in Caddo ceramic vessels. He worked most often in Red River and McCurtain Counties, and dug at sites he knew in the area, including the Wright Plantation site (41RR7) which he owned, and the Sam Kaufman/Coffman site (41RR16, sometimes known as the Arnold Roitsch site), which was just a few miles downstream along the Red River. The individuals and objects included in this notice come from the Wright and Kaufman sites in Red River County, the Roden (34MC215) and A.W. Davis (34MC6) sites in McCurtain County, and from additional burial sites in southeastern Oklahoma and northeastern Texas. They were likely removed sometime between 1900 and 1944. SNOMNH acquired these individuals and associated funerary objects after Wright passed away in 1944.

The Kaufman site contained houses, mounds, and cemeteries and dates to the McCurtain Phase (1300-1700 CE), including the Caddo II, Caddo III, and Caddo IV periods. The Wright Plantation site was a multiple mound site with both Mound Prairie Phase (~1100-1400 CE) and McCurtain Phase (1300-1700 CE) occupations. The Roden site is a village and mound site dating to around 1300-1700 CE. The A.W. Davis site dates to the Caddo III period (1400-1500 CE).

To our knowledge, no potentially hazardous materials were used to treat any of the human remains or associated funerary objects.

Cultural Affiliation

Based on the information available and the results of consultation, cultural affiliation is clearly identified by the information available about the human remains and associated funerary objects described in this notice.

Determinations

SNOMNH has determined that:

• The human remains described in this notice represent the physical remains of seven individuals of Native American ancestry.

• The 31 objects described in this notice are reasonably believed to have been placed intentionally with or near individual human remains at the time of death or later as part of the death rite or ceremony.

• There is a connection between the human remains and associated funerary objects described in this notice and the Caddo Nation of Oklahoma.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after September 19, 2025. If competing requests for repatriation are received, SNOMNH must determine the most appropriate requestor prior to repatriation. Requests for joint repatriation of the human remains and associated funerary objects are considered a single request and not competing requests. SNOMNH is responsible for sending a copy of this notice to the Indian Tribes and Native Hawaiian organizations identified in this notice and any other consulting parties.

Authority: Native American Graves Protection and Repatriation Act, 25 U.S.C. 3003, and the implementing regulations, 43 CFR 10.10.

Dated: August 5, 2025.
Melanie O'Brien,
Manager, National NAGPRA Program.

[FR Doc. 2025-15853 Filed 8-19-25; 8:45 am]

BILLING CODE 4312-52-P